DEPARTMENT OF HEALTH AND HUMAN SERVICES

Centers for Disease Control and Prevention

[Program Announcement 04099]

Requests for Applications To Determine the Pharmacokinetics of Clostridium Botulinum Neurotoxins A, B, C, E, and F; Notice of Availability of Funds—Amendment

A notice announcing the availability of fiscal year (FY) 2004 funds for a cooperative agreement, Requests for Applications to Determine the Pharmacokinetics of Clostridium Botulinum Neurotoxins A, B, C, E, and F, was published in the Federal Register Friday, May 14, 2004, Volume 69, Number 94, pages 26836-26841. The notice is amended as follows: Page 26837, third column, fifth paragraph, under Activities, the sentence “Awardee activities for this program but are not limited to the following:” should be changed to read, “Awardee activities for this program are as follows:''.

Dated: June 3, 2004.
William P. Nichols,
Acting Director, Procurement and Grants Office, Centers for Disease Control and Prevention.

[FR Doc. 04-13004 Filed 6-8-04; 8:45 am]

BILLING CODE 4163-18-P